DEPARTMENT OF ENERGY

Federal Energy Regulatory Commission

[Docket Nos. CP12-507-000; CP12-508-000]

Corpus Christi Liquefaction, LLC; Cheniere Corpus Christi Pipeline, LP; Notice of Availability of the Draft Environmental Impact Statement for the Proposed Corpus Christi LNG Project

The staff of the Federal Energy Regulatory Commission (FERC or Commission) has prepared a draft environmental impact statement (EIS) for the Corpus Christi LNG Project (Project), proposed by Corpus Christi Liquefaction, LLC and Cheniere Corpus Christ Pipeline, LP (collectively Cheniere) in the above-referenced docket. Cheniere requests authorization to construct and operate the facilities necessary to import, export, store, vaporize, and liquefy natural gas and deliver the resulting product either into existing interstate and intrastate natural gas pipelines in the Corpus Christi area, or export liquefied natural gas (LNG) elsewhere.

The draft EIS assesses the potential environmental effects of the construction and operation of the Project in accordance with the requirements of the National Environmental Policy Act (NEPA). The FERC staff concludes that approval of the proposed Project, with the mitigation measures recommended in the EIS, would ensure that impacts in the Project area would be avoided or minimized and would not be significant. Construction and operation of the Project would result in mostly temporary and short-term environmental impacts; however, some long-term and permanent environmental impacts would occur.

The U.S. Army Corps of Engineers (COE), U.S. Coast Guard, U.S. Department of Energy (DOE), U.S. Environmental Protection Agency (EPA), and U.S. Department of Transportation (DOT) participated as cooperating agencies in the preparation of the EIS. Cooperating agencies have jurisdiction by law or special expertise with respect to resources potentially affected by the proposal and participate in the NEPA analysis. The DOE will adopt and use the EIS in issuing their permit. The U.S. Coast Guard, EPA, and DOT cooperated in the preparation of this EIS because of their special expertise with respect to resources potentially affected by the proposal. Although the cooperating agencies provide input to the conclusions and recommendations presented in the draft EIS, the agencies will present their own conclusions and recommendations in their respective Records of Decision for the Project.

The draft EIS addresses the potential environmental effects of the construction and operation of the following Project facilities:

• Liquefaction facilities, including three liquefaction trains capable of producing 782 million British thermal units (MMBtu) per year of LNG;

• vaporization facilities, including two trains of ambient air vaporizers and send out pumps capable of vaporizing sufficient LNG volume for each to send out 200 MMBtu per day of natural gas;

• LNG storage facilities, including three LNG storage tanks each capable of storing 160,000 cubic meters of LNG;

• marine terminal with two LNG carrier berths;

• 23 miles of 42-inch-diameter pipeline;

• one 41,000 horsepower compressor station and one 12,260 horsepower compressor station; and

• ancillary facilities.

The FERC staff mailed copies of the draft EIS to federal, state, and local government representatives and agencies; elected officials; environmental and public interest groups; Native American tribes; potentially affected landowners and other interested individuals and groups; newspapers and libraries in the Project area; and parties to this proceeding. Everyone on our environmental mailing list will receive a CD version of the draft EIS. In addition, the draft EIS is available for public viewing on the FERC's Web site (www.ferc.gov) using the eLibrary link. A limited number of copies are available for distribution and public inspection at: Federal Energy Regulatory Commission, Public Reference Room, 888 First Street NE., Room 2A, Washington, DC 20426, (202) 502-8371.

If you would like a hard copy of the draft EIS, please contact the Public Reference Room.

Any person wishing to comment on the draft EIS may do so. To ensure consideration of your comments on the proposal in the final EIS, it is important that the Commission receive your comments before August 4, 2014.

For your convenience, there are four methods you can use to submit your comments to the Commission. In all instances, please reference the Project docket numbers (CP12-507-000 and CP12-508-000) with your submission. The Commission encourages electronic filing of comments and has expert staff available to assist you at (202) 502-8258 or efiling@ferc.gov.

(1) You can file your comments electronically using the eComment feature on the Commission's Web site (www.ferc.gov) under the link to Documents and Filings. This is an easy method for submitting brief, text-only comments on a project;

(2) You can file your comments electronically by using the eFiling feature on the Commission's Web site (www.ferc.gov) under the link to Documents and Filings. With eFiling, you can provide comments in a variety of formats by attaching them as a file with your submission. New eFiling users must first create an account by clicking on “eRegister.” If you are filing a comment on a particular project, please select “Comment on a Filing” as the filing type; or

(3) You can file a paper copy of your comments by mailing them to the following address: Kimberly D. Bose, Secretary, Federal Energy Regulatory Commission, 888 First Street NE., Room 1A, Washington, DC 20426.

(4) In lieu of sending written or electronic comments, the Commission invites you to attend the public comment meeting its staff will conduct in the Project area to receive comments on the draft EIS. We encourage interested groups and individuals to attend and present oral comments on the draft EIS. Transcripts of the meetings will be available for review in eLibrary under the Project docket numbers. The meeting will begin at 7:00 p.m. and is scheduled as follows:

Date | Location
July 15, 2014 | Portland Community Center, 2000 Billy G Webb Drive, Portland, TX 78374.

Any person seeking to become a party to the proceeding must file a motion to intervene pursuant to Rule 214 of the Commission's Rules of Practice and Procedures (18 CFR Part 385.214).¹ Only intervenors have the right to seek rehearing of the Commission's decision. The Commission grants affected landowners and others with environmental concerns intervenor status upon showing good cause by stating that they have a clear and direct interest in this proceeding which no other party can adequately represent. Simply filing environmental comments will not give you intervenor status, but you do not need intervenor status to have your comments considered.

¹ See the previous discussion on the methods for filing comments.

Questions?

Additional information about the Project is available from the Commission's Office of External Affairs, at (866) 208-FERC, or on the FERC Web site (www.ferc.gov) using the eLibrary link. Click on the eLibrary link, click on “General Search,” and enter the docket number excluding the last three digits in the Docket Number field (i.e., CP12-507 and CP12-508). Be sure you have selected an appropriate date range. For assistance, please contact FERC Online Support at FercOnlineSupport@ferc.gov or toll free at (866) 208-3676; for TTY, contact (202) 502-8659. The eLibrary link also provides access to the texts of formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to http://www.ferc.gov/docs-filing/esubscription.asp.

Dated: June 13, 2014.
Kimberly D. Bose,
Secretary.

[FR Doc. 2014-14375 Filed 6-19-14; 8:45 am]

BILLING CODE 6717-01-P